ENVIRONMENTAL PROTECTION AGENCY

[FRL-12833-01-R6]

Clean Air Act Operating Permit Program; Order on Petition for Objection to State Operating Permit for Harvest Four Corners, L.L.C., 32-9 Central Delivery Point, San Juan County, New Mexico

AGENCY: Environmental Protection Agency (EPA).

ACTION: Notice of final order on petition.

SUMMARY: The Environmental Protection Agency (EPA) Administrator signed an order dated May 30, 2025, granting in part and denying in part a petition dated October 21, 2024, from the Center of Biological Diversity. The petition requested that the EPA object to a Clean Air Act (CAA) title V operating permit issued by the New Mexico Environmental Department (NMED) to Harvest Four Corners, LLC, 32-9 Central Delivery Point (CDP) located in San Juan County, New Mexico.

FOR FURTHER INFORMATION CONTACT: Elizabeth Layton, EPA Region 6 Office, Air Permits Section, (214) 665-2136, layton.elizabeth@epa.gov. The final order and petition are available electronically at: https://www.epa.gov/title-v-operating-permits/title-v-petition-database.

SUPPLEMENTARY INFORMATION: The EPA received a petition from the Center of Biological Diversity (CBD) dated October 21, 2024, requesting that the EPA object to the issuance of operating permit no. P030-R5, issued by NMED to Harvest Four Corners, LLC, 32-9 CDP in San Juan County, New Mexico. On May 30, 2025, the EPA Administrator issued an order granting in part and denying in part the petition. The order explains the basis for the EPA's decision.

Sections 307(b) and 505(b)(2) of the CAA provide that a petitioner may request judicial review of those portions of an order that deny issues in a petition. Any petition for review shall be filed in the United States Court of Appeals for the appropriate circuity no later than August 19, 2025.

Dated: June 10, 2025.
James McDonald,
Director, Air and Radiation Division, Region 6.

[FR Doc. 2025-11368 Filed 6-18-25; 8:45 am]

BILLING CODE 6560-50-P